DEPARTMENT OF ENERGY

Federal Energy Regulatory Commission

Combined Notice of Filings

Take notice that the Commission has received the following Natural Gas Pipeline Rate and Refund Report filings:

Filings Instituting Proceedings

Docket Numbers: RP16-941-000.

Applicants: Enable Gas Transmission, LLC.

Description: Section 4(d) Rate Filing: Negotiated Rate Filing—Black Hills 3771—name change to be effective 3/1/2016.

Filed Date: 5/11/16.

Accession Number: 20160511-5202.

Comments Due: 5 p.m. ET 5/23/16.

Docket Numbers: RP16-942-000.

Applicants: Texas Eastern Transmission, LP.

Description: Compliance filing TETLP Request for Waiver of OFO Penalty Provisions.

Filed Date: 5/11/16.

Accession Number: 20160511-5245.

Comments Due: 5 p.m. ET 5/23/16.

Docket Numbers: RP16-943-000.

Applicants: Vector Pipeline L.P.

Description: Section 4(d) Rate Filing: Negotiated Rate Filing—EGD & Peoples to be effective 6/1/2016.

Filed Date: 5/12/16.

Accession Number: 20160512-5034.

Comments Due: 5 p.m. ET 5/24/16.

Docket Numbers: RP16-944-000.

Applicants: Texas Eastern Transmission, LP.

Description: Section 4(d) Rate Filing: May 2016 Negotiated Rate and Non-conforming Agreements Cleanup to be effective 6/12/2016.

Filed Date: 5/12/16.

Accession Number: 20160512-5066.

Comments Due: 5 p.m. ET 5/24/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP16-548-002.

Applicants: Trans-Union Interstate Pipeline, L.P.

Description: Compliance filing Compliance Filing to Docket RP16-548 to be effective 4/1/2016.

Filed Date: 5/11/16.

Accession Number: 20160511-5120.

Comments Due: 5 p.m. ET 5/23/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 12, 2016.
Nathaniel J. Davis, Sr.,
Deputy Secretary.

[FR Doc. 2016-12201 Filed 5-23-16; 8:45 am]

BILLING CODE 6717-01-P